DEPARTMENT OF TRANSPORTATION

Pipeline and Hazardous Materials Safety Administration

Office of Hazardous Materials Safety; Notice of Applications for Modification of Special Permit

AGENCY: Pipeline and Hazardous Materials Safety Administration (PHMSA), DOT.

ACTION: List of applications for modification of special permit.

SUMMARY: In accordance with the procedures governing the application for, and the processing of, special permits from the Department of Transportation's Hazardous Material Regulations (49 CFR Part 107, Subpart B), notice is hereby given that the Office of Hazardous Materials Safety has received the application described herein. This notice is abbreviated to expedite docketing and public notice. Because the sections affected, modes of transportation, and the nature of application have been shown in earlier Federal Register publications, they are not repeated here. Request of modifications of special permits (e.g. to provide for additional hazardous materials, packaging design changes, additional mode of transportation, etc.) are described in footnotes to the application number. Application numbers with the suffix “M” denote a modification request. These applications have been separated from the new application for special permits to facilitate processing.

DATES: Comments must be received on or before September 5, 2007.

Address Comments To: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, East Building, PHH-30, 1200 New Jersey Avenue Southeast, Washington, DC or at http://dms.dot.gov.

The notice of receipt of applications for modification of special permit is published in accordance with Part 107 of the Federal hazardous materials transportation law (49 U.S.C. 5117(b); 49 CFR 1.53(b)).

Issued in Washington, DC, on August 14, 2007.
Delmer F. Billings,
Director, Office of Hazardous Materials, Special Permits and Approvals.

Modification Special Permits
Application number | Docket number | Applicant | Regulation(s) affected | Nature of special permit thereof
7835-M |  | Richem Company, Inc., Albuquerque, NM | 49 CFR 177.848(d) | To modify the special permit to authorize additional bulk and non-bulk containers for transporting class 8 liquids.
8554-M |  | Orica USA Inc., Watkins, CO | 49 CFR 173.62; 173.240; 173.242; 173.93; 173.114a; 173.154; 176.83; 176.415; 177.848(d) | To modify the special permit to authorize the transportation in commerce of certain Division 1.5D explosives in the same vehicle with Division 5.1 oxidizers.
8723-M |  | Dyno Nobel, Inc., Salt Lake City, UT | 49 CFR 172.101; 173.62; 173.242; 176.83; 177.848 | To modify the special permit to authorize the transportation in commerce of an additional Division 5.1 hazardous material.
8723-M |  | Austin Powder Company, Cleveland, OH | 49 CFR 172.101; 173.62; 173.242; 176.83; 177.848 | To modify the special permit to authorize the transportation in commerce of an additional Division 5.1 hazardous material.
11194-M |  | Carleton Technologies, Inc., Westminster, MD | 49 CFR 173.302(a); 173.304(a); 175.3 | To modify the special permit to authorize the transportation in commerce of additional Division 2.2 gases.
11579-M |  | Senex Explosives, Inc., Cuddy, PA | 49 CFR 177.848(e)(2); 177.848(g)(3) | To modify the special permit to authorize the transportation of additional Class 3 materials and the use of several DOT specification and non-DOT specification bulk packagings.
13169-M | RSPA-2002-13894 | Conocophillips, Alaska, Inc., Anchorage, AK | 49 CFR 172.101(9B) | To modify the special permit to allow the transportation in commerce of certain Class 9 materials in UN 31A intermediate bulk containers which exceed quantity limitations when shipped by air.
14393-M | PHMSA-2006-25797 | Hamilton, Sundstrand, Windsor Locks, CT | 49 CFR 173.306(e)(iii), (iv), (v) and (vi); 173.307(a)(4)(iv) | To modify the special permit to authorize the transportation in commerce of new supplemental cooling unit refrigeration machines with alternative safety devices as a component part of an aircraft.
14418-M | PHMSA-2006-26182 | Department of Defense, Ft. Eustis, VA | 49 CFR 172.301; 172.400; 172.504(a) | To modify the special permit to authorize the transportation in commerce of an additional Division 4.3 hazardous material.

[FR Doc. 07-4073 Filed 8-20-07; 8:45 am]

BILLING CODE 4909-60-M